DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project “Supporting and Evaluating the Dissemination and Implementation of PCOR to Improve Non-Surgical Treatment of Urinary Incontinence Among Women in Primary Care.”

DATES: Comments on this notice must be received by December 27, 2022.

ADDRESSES: Written comments should be submitted to: Doris Lefkowitz, Reports Clearance Officer, AHRQ, by email at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

Supporting and Evaluating the Dissemination and Implementation of PCOR To Improve Non-Surgical Treatment of Urinary Incontinence Among Women in Primary Care

AHRQ's Improve Non-surgical Treatment of Urinary Incontinence Among Women in Primary Care (INTUIT-PC) initiative, now named the Managing Urinary Incontinence (MUI) initiative, addresses important gaps in urinary incontinence (UI) care for women in the primary care setting. As part of the MUI initiative, AHRQ is funding five cooperative agreement (U18) grantees to develop primary care extension services to disseminate and implement improved nonsurgical treatment of UI for women—including screening, diagnosis, management, and specialty referral—within primary care practices in separate regions of the United States.

AHRQ is also conducting a project to support the MUI cooperative agreements and evaluate the initiative, which includes:

• Support of the five U18 MUI cooperative agreements in the form of a learning community, technical assistance, and other resources to assist grantees to disseminate and implement patient centered outcomes research (PCOR) for nonsurgical treatment of urinary incontinence for women in primary care.

• A rigorous mixed methods process and outcome evaluation of the grantees' dissemination and implementation strategies.

This evaluation is being conducted by AHRQ through its contractor, RAND, pursuant to AHRQ's authority to carry out the PCOR dissemination activities described in section 937 of the Public Health Service Act. 42 U.S.C. 299b—37.

Method of Collection

To achieve the goals of this multisite evaluation, AHRQ is requesting OMB approval for three years of data collection by the evaluator. The evaluator's primary data collection is requested to achieve the goals of the multisite evaluation and includes the following data collection activities:

(1) Focus groups with practice facilitators who are employed by the MUI U18 grantees to provide direct technical assistance to primary care practices

(2) Semi-structured interviews with leaders and staff of primary care practices participating in the MUI U18 studies

Practice facilitator focus groups. Practice facilitators (also known as practice coaches) perform a critical role in enabling primary care practices to implement evidence-based improvements. The purpose of the annual focus groups with practice facilitators is to gather their insights on challenges assisting various types of primary care practices, the resources needed to promote improvement in primary care practices, and the effectiveness of different dissemination and implementation strategies used by the MUI U18 studies. The evaluator aims to conduct a virtual focus group with 8-10 practice facilitators for each of the five U18 studies, for an expected total of 45 focus group participants per year.

Practice leader/staff semi-structured interviews. The goal of the MUI U18 studies is to disseminate and implement evidence-based UI treatment for women within primary care practices. The purpose of the semi-structured interviews with leaders and staff of primary care practices is to collect data from the practices' perspective on the barriers and facilitators to implementing evidence-based UI treatment for women in primary care, as well as on the utility of the technical assistance and resources provided to practices by the grant studies. The evaluator aims to conduct 4-8 in-person individual interviews in one practice per each U18 study (average of 1 interviews × on average 6 participants × 1 practice × 5 grants = 30 interviews), and 1 telephone interview with 1-2 participants per interview for two additional practices per each grant study (1 interview × on average 1.5 participants × 2 practices × 5 grants = 15 interviews), for an expected total of 45 interview participants per year.

Estimated Annual Respondent Burden

Exhibit A.1a shows the estimated annualized burden hours for the respondents' time to complete the Practice Facilitator Focus Groups and Practice Leader/Staff Semi-Structured Interviews. For the three-year clearance period, the estimated annualized burden hours for the interviews are $2,190.50.

Exhibit A.1a—Estimated Annualized Burden Hours
Form name | Number of respondents | Number of responses per respondent | Hours per response | Total burden hours
Practice Facilitator Focus Groups | 45 | 1 | 1 | 45
Practice Leader/Staff Semi-Structured Interviews | 45 | 1 | 1 | 45
Total | 90 | N/A | N/A | 90

Exhibit A.1b—Estimated Annualized Cost Burden
Form name | Number of respondents | Total burden hours | Average hourly wage rate * | Total cost burden
Practice Facilitator Focus Groups | 45 | 45 | ᵃ $28.01 | $1,260.45
Practice Leader/Staff Semi-Structured Interviews | 45 | 45 | ᵃ 28.01 | 1,260.45
Total | 90 | 90 | 24.34 | 2,520.90
* Mean hourly wage for All Occupations (00-0000).
Occupational Employment Statistics, May 2021 National Occupational Employment and Wage Estimates United States, U.S. Department of Labor, Bureau of Labor Statistics.

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: October 24, 2022.
Marquita Cullom,
Associate Director.

[FR Doc. 2022-23506 Filed 10-27-22; 8:45 am]

BILLING CODE 4160-90-P